SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before January 23, 2006.

ADDRESSES: Send all comments regarding whether this information collection is necessary for the proper performance of the function of the agency, whether the burden estimates are accurate, and if there are ways to minimize the estimated burden and enhance the quality of the collection, to Gail Hepler, Chief 504 Program Branch, Office of Financial Assistance, Small Business Administration, 409 3rd Street, SW., Suite 8300, Washington, DC 20416.

FOR FURTHER INFORMATION CONTACT: Gail Hepler, Chief, 504 Program Branch, 202-205-7530, gail.hepler@sba.gov. Curtis B. Rich, Management Analyst, 202-205-7030, curtis.rich@sba.gov.

SUPPLEMENTARY INFORMATION: Title: “Gulf Coast Relief Financing Pilot Information Collection.”

Description of Respondents: Small Businesses devastated by Hurricanes Katrina and Rita.

Form No.'s: 2276-Parts ABC, 2279, 2280, 2281 and 2282.

Annual Responses: 8,000.

Annual Burden: 8,000.

Jacqueline White,
Chief, Administrative Information Branch.

[FR Doc. 05-23044 Filed 11-21-05; 8:45 am]

BILLING CODE 8025-01-P